DEPARTMENT OF HOMELAND SECURITY

Federal Emergency Management Agency

44 CFR Part 67

Final Flood Elevation Determinations

AGENCY: Federal Emergency Management Agency (FEMA), Emergency Preparedness and Response Directorate, Department of Homeland Security.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

EFFECTIVE DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: Doug Bellomo, P.E., Hazard Identification Section, Emergency Preparedness and Response Directorate, FEMA, 500 C Street SW., Washington, DC 20472, (202) 646-2903.

SUPPLEMENTARY INFORMATION: FEMA makes the final determinations listed below for the modified BFEs for each community listed. These modified elevations have been published in newspapers of local circulation and ninety (90) days have elapsed since that publication. The Mitigation Division Director of the Emergency Preparedness and Response Directorate, has resolved any appeals resulting from this notification.

This final rule is issued in accordance with Section 110 of the Flood Disaster Protection Act of 1973, 42 U.S.C. 4104, and 44 CFR Part 67.

The Agency has developed criteria for floodplain management in floodprone areas in accordance with 44 CFR Part 60.

Interested lessees and owners of real property are encouraged to review the proof Flood Insurance Study and FIRM available at the address cited below for each community.

The BFEs and modified BFEs are made final in the communities listed below. Elevations at selected locations in each community are shown.

National Environmental Policy Act. This rule is categorically excluded from the requirements of 44 CFR Part 10, Environmental Consideration. No environmental impact assessment has been prepared.

Regulatory Flexibility Act. The Mitigation Division Director of the Emergency Preparedness and Response Directorate certifies that this rule is exempt from the requirements of the Regulatory Flexibility Act because final or modified BFEs are required by the Flood Disaster Protection Act of 1973, 42 U.S.C. 4104, and are required to establish and maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 67

Administrative practice and procedure, Flood insurance, Reporting and recordkeeping requirements.

Accordingly, 44 CFR Part 67 is amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground. *Elevation in feet (NGVD) •Elevation in feet (NAVD)
ILLINOIS
Sangamon County (FEMA Docket Nos. D-7554 and D-7578)
Fox Creek:
At confluence with Polecat Creek | *571
Approximately 1,100 feet upstream of Ptarmigan Drive | *587
Village of Chatham, Sangamon County (Unincorporated Areas)
Jacksonville Branch:
At confluence with Spring Creek | *543
Approximately 75 feet upstream of Koke Mill Road | *603
City of Springfield, Village of Jerome, City of Leland Grove, Sangamon County (Unincorporated Areas)
Spring Creek:
Approximately 1,600 feet downstream of North 8th Street | *529
Approximately 3,300 feet upstream of South Farmingdale Road | *569
City of Springfield, Sangamon County (Unincorporated Areas)
Polecat Creek:
Approximately 2,300 feet upstream of confluence with Lick Creek | *563
Approximately 200 feet upstream of Broaddus Road | *601
Village of Chatham, Sangamon County (Unincorporated Areas), City of Springfield
Jacksonville Branch Tributary:
At the confluence with Jacksonville Branch | *570
Approximately 500 feet upstream of Wiggins Avenue | *573
City of Leland Grove, City of Springfield
Black Branch:
Approximately 2,000 feet downstream of CSX Transportation | *541
At Maxhiemer Road | *571
Unnamed Tributary to Lick Creek:
Approximately 0.56 mile downstream of Main Street | *598
Approximately 200 feet upstream of Center Street | *616
Town Branch:
At confluence with Spring Creek | *540
At Lincoln Avenue | *540
Unnamed Tributary I:
At confluence with Spring Creek | *548
Approximately 5,600 feet upstream of confluence with Spring Creek | *548
Unnamed Tributary II:
At confluence with Tributary I | *548
Approximately 2,000 feet upstream of confluence with Unnamed Tributary I | *548
Sangamon County (Unincorporated Areas)
Maps available for inspection at the Springfield-Sangamon County Regional Planning Commission, 200 South 9th Street, Room 212, Springfield, Illinois.
Village of Chatham:
Maps available for inspection at the Chatham Village Hall, 116 East Mulberry Street, Chatham, Illinois or at the Springfield-Sangamon County Regional Planning Commission, 200 South 9th Street, Room 212, Springfield, Illinois.
Village of Jerome:
Maps available for inspection at the Jerome Village Hall, 2901 Leonard Street, Springfield, Illinois or at the Springfield-Sangamon County Regional Planning Commission, 200 South 9th Street, Room 212, Springfield, Illinois.
City of Leland Grove:
Maps available for inspection at the Leland Grove City Hall, 2000 Chatham Road, Springfield, Illinois or at the Springfield-Sangamon County Regional Planning Commission, 200 South 9th Street, Room 212, Springfield, Illinois.
Village of Loami:
Maps available for inspection at the Loami Village Hall, 104 South Main Street, Loami, Illinois or at the Springfield-Sangamon County Regional Planning Commission, 200 South 9th Street, Room 212, Springfield, Illinois.
Village of Rochester:
Maps available for inspection at the Rochester Village Hall, 1 Community Drive, Rochester, Illinois or at the Springfield-Sangamon County Regional Planning Commission, 200 South 9th Street, Room 212, Springfield, Illinois.
City of Springfield:
Maps available for inspection at the City of Springfield Public Works Department, 300 East Monroe Street, Room 201, Springfield, Illinois or at the Springfield-Sangamon County Regional Planning Commission, 200 South 9th Street, Room 212, Springfield, Illinois.
MINNESOTA
Hennepin County (FEMA Docket No. D-7562)
North Branch Bassett Creek:
Approximately 35 feet upstream of the confluence with Bassett Creek | *850
At Louisiana Avenue | *883
City of Crystal, City of New Hope
Bassett Creek:
At conduit entrance approximately 1,500 feet downstream of Irving Avenue | *807
Approximately 100 feet downstream of South Shore Drive | *889
Cities of Golden Valley, Medicine Lake, Minneapolis, and Plymouth
Twin Lakes:
Entire shoreline within the county | *856
Cities of Brooklyn Center, Crystal and Robbinsdale
Ryan Lake:
Entire shoreline within the county | *856
Cities of Brooklyn Center, Minneapolis, and Robbinsdale
Lake Minnetonka:
Entire shoreline within the county | *931
Cities of Deephaven, Greenwood, and Minnetrista
Gleason Creek:
Approximately 450 feet downstream of the confluence of Gleason Lake | *945
Approximately 175 feet downstream of the confluence of Gleason Lake | *945
City of Plymouth
Unnamed Ponding Area Southwest of Hadley Lake:
Entire shoreline within the county | *952
City of Wayzata
Pioneer Creek:
Approximately 0.6 mile upstream of County Highway 90 | *958
Approximately 400 feet downstream of Pagenkopf Road | *958
City of Maple Plain
Lake Sarah:
Entire shoreline within the county | *981
City of Greenfield
North Fork Rush Creek:
Approximately 400 feet upstream of the downstream crossing of 109th Avenue North (County Route 117) | *926
Approximately 75 feet downstream of the upstream crossing of 109th Avenue North (County Route 117) | *927
Township of Hassan
Crystal Bay:
Entire shoreline within the county | *931
City of Minnetonka Beach
Lafayette Bay:
Entire shoreline within the county | *931
City of Minnetonka Beach
Halstead Bay:
Entire shoreline within the county | *931
City of Minnetrista
Dutch Lake:
Entire shoreline within the county | *940
City of Minnetrista
Jennings Bay:
Entire shoreline within the county | *931
City of Minnetrista
Six Mile Creek:
At the confluence with Halstead Bay | *931
Approximately 200 feet upstream of Highland Road | *931
City of Minnetrista
City of Brooklyn Center:
Maps available for inspection at the Brooklyn Center City Hall, 6301 Shingle Creek Parkway, Brooklyn Center, Minnesota.
City of Crystal:
Maps available for inspection at the Crystal City Hall, 4141 Douglas Drive, Crystal, Minnesota.
City of Deephaven:
Maps available for inspection at the Deephaven City Hall, 20225 Cottagewood Road, Deephaven, Minnesota.
City of Golden Valley:
Maps available for inspection at the Golden Valley City Hall, 7800 Golden Valley Road, Golden Valley, Minnesota.
City of Greenfield:
Maps available for inspection at the Greenfield City Hall, 6390 Town Hall Drive, Loretto, Minnesota.
City of Greenwood:
Maps available for inspection at the Greenwood City Hall, Zoning Office, 20225 Cottagewood Road, Deephaven, Minnesota.
Township of Hassan:
Maps available for inspection at the Hassan Township Hall, 25000 Hassan Parkway, Rogers, Minnesota.
City of Maple Plain:
Maps available for inspection at the Maple Plain City Hall, 1620 Maple Avenue, Maple Plain, Minnesota.
City of Medicine Lake:
Maps available for inspection at the Medicine Lake City Hall, 10609 South Shore Drive, Medicine Lake, Minnesota.
City of Minneapolis:
Maps available for inspection at the Minneapolis City Hall, Public Works Office, 350 South Fifth Street, Minneapolis, Minnesota.
City of Minnetonka Beach:
Maps available for inspection at the Minnetonka Beach City Hall, 2945 West Wood Road, Minnetonka Beach, Minnesota.
City of Minnetrista:
Maps available at the Minnetrista City Hall, 7701 County Road 110 West, Minnetrista, Minnesota.
City of New Hope:
Maps available for inspection at the New Hope City Hall, 4401 Xylon Avenue North, New Hope, Minnesota.
City of Plymouth:
Maps available for inspection at the Plymouth City Hall, 3400 Plymouth Boulevard, Plymouth, Minnesota.
City of Robbinsdale:
Maps available for inspection at the Robbinsdale City Hall, 4100 Lakeview Avenue North, Robbinsdale, Minnesota.
City of Wayzata:
Maps available for inspection at the Wayzata City Hall, 600 Rice Street, Wayzata, Minnesota.
PENNSYLVANIA
Bucks County (Unincorporated Areas) (FEMA Docket No. D-7562)
East Branch Perkiomen Creek:
Approximately 550 feet upstream of County Line Road | *278
Approximately 600 feet upstream of East Callowhill Road | *318
Township of West Rockhill, Borough of Sellersville, Borough of Perkasie, Township of East Rockhill
Pleasant Spring Creek:
At the confluence with East Branch Perkiomen Creek | *311
Approximately 240 feet upstream of Dam No. 2 | *311
Borough of Perkasie
Township of East Rockhill:
Maps available for inspection at the East Rockhill Township Hall, 1622 Ridge Road, Perkasie, Pennsylvania.
Borough of Perkasie:
Maps available for inspection at Perkasie Borough Hall, 620 West Chestnut Street, Perkasie, Pennsylvania.
Borough of Sellersville:
Maps available for inspection at the Sellersville Borough Hall, 140 East Church Street, Sellersville, Pennsylvania.
Township of West Rockhill:
Maps available for inspection at the West Rockhill Township Office, 1028 Ridge Road, West Rockhill, Pennsylvania.

(Catalog of Federal Domestic Assistance No. 83.100, “Flood Insurance.”)

Dated: April 7, 2004.
Anthony S. Lowe,
Mitigation Division Director, Emergency Preparedness and Response Directorate.

[FR Doc. 04-9219 Filed 4-22-04; 8:45 am]

BILLING CODE 9110-12-P